DEPARTMENT OF JUSTICE

[AAG/A Order No. 021-2003]

Privacy Act of 1974; Systems of Records

AGENCY: United States Trustee Program, Department of Justice.

ACTION: Notice of modifications to systems of records.

SUMMARY: Pursuant to the Privacy Act of 1974 (5 U.S.C. 552a) and Office of Management and Budget Circular No. A-130, the United States Trustee Program (“USTP”), Department of Justice, proposes to modify the following existing Privacy Act systems of records: JUSTICE/UST-001, “Bankruptcy Case Files and Associated Records” (previously published Sept. 23, 1999, at 64 FR 51557); JUSTICE/UST-002, “Trustee Files” (previously published Sept. 23, 1999 at 64 FR 51557); JUSTICE/UST-003, “U.S. Trustee Timekeeping System” (previously published July 26, 1999, at 64 FR 40392); and JUSTICE/UST-004, “United States Trustee Program Case Referral System” (previously published Sept. 23, 1999, at 64 FR 51557). In addition, JUSTICE/UST-999, “United States Trustee Appendix 1—List of Record Retention Addresses” (previously published Dec. 11, 1987, at 52 FR 47301), is being deleted, as it has been superseded by the USTP's Internet office locator (www.usdoj.gov/ust). The only modification to UST-001, UST-002, UST-003, and UST-004 is the addition of a new routine use, allowing disclosure of information to contractors.

DATES: These actions will be effective December 10, 2003.

FOR FURTHER INFORMATION CONTACT: For information regarding these changes, and for general information regarding USTP's Privacy Act systems, contact Anthony J. Ciccone, FOIA/PA Counsel, Executive Office for United States Trustees, at (202) 307-1399.

SUPPLEMENTARY INFORMATION: Since these Privacy Act systems of record were last published in the Federal Register, the “United States Trustee Appendix 1—List of Record Retention Addresses” (UST-999) has been superseded by the USTP's Internet office locator (www.usdoj.gov.ust). Consequently, UST-999 is being deleted as outdated. The new routine use for contractors is being added to systems UST-001, UST-002, UST-003, and UST-004 in accordance with standard Department of Justice language. The need for this routine use stems from new bankruptcy court rules slated to take effect on December 1, 2003, after which debtors' social security numbers (SSNs) and other personal identifiers will be redacted in public filings pursuant to the Judicial Conference's new “privacy policy.” While the USTP has worked with the Judicial Conference to ensure that USTP offices will continue to receive debtors' SSNs and other personal identifiers, the offices need to share such information with USTP contractors, such as those performing debtor audits, in order to perform statutory bankruptcy oversight responsibilities under 28 U.S.C. 581 et seq. and 11 U.S.C. 101, et seq.

In accordance with 5 U.S.C. 552a(e)(4) and (11), the public is given a 30-day period in which to comment; and the Office of Management and Budget (OMB), which has oversight responsibility of the Act, requires a 40-day period in which to conclude its review of the new routine use. Therefore, please submit any comments by December 10, 2003. The public, OMB, and Congress are invited to submit comments to: Mary Cahill, Management and Planning Staff, Justice Management Division, Department of Justice, 1331 Pennsylvania Ave., NW., Washington, DC 20530 (1400 National Place Building).

In accordance with 5 U.S.C. 552a(r), the Department has provided a report to OMB and Congress.

Dated: November 4, 2003.
Paul R. Corts,
Assistant Attorney General for Administration.

JUSTICE/UST-001

System Name:

Bankruptcy Case Files and Associated Records.

* * * * *

Routine Uses of Records Maintained in the system, Including Categories of Users and the Purposes of Such Uses:

* * * * *

These records may be disclosed to contractors, grantees, experts, consultants, students, and others performing or working on a contract, service, grant, cooperative agreement, or other assignment for the Federal Government, when necessary to accomplish an agency function related to this system of records.

* * * * *

JUSTICE/UST-002

System Name:

Trustee File.

* * * * *

Routine Uses of Records Maintained in the System, Including Categories of Users and the Purposes of Such Uses:

* * * * *

These records may be disclosed to contractors, grantees, experts, consultants, students, and others performing or working on a contract, service, grant, cooperative agreement, or other assignment for the Federal Government, when necessary to accomplish an agency function related to this system of records.

* * * * *

JUSTICE/UST-003

System Name:

U.S. Trustee Timekeeping System.

* * * * *

Routine Uses of Records Maintained in the System, INcluding Categories of Users and the Purposes of Such Uses:

* * * * *

These records may be disclosed to contractors, grantees, experts, consultants, students, and others performing or working on a contract, service, grant, cooperative agreement, or other assignment for the Federal Government, when necessary to accomplish an agency function related to this system of records.

* * * * *

JUSTICE/UST-004

System Name:

United States Trustee Program Case Referral System.

* * * * *

Routine Uses of Records Maintained in the System, Including Categories of Users and Purposes of Such Uses:

* * * * *

These records may be disclosed to contractors, grantees, experts, consultants, students, and others performing or working on a contract, service, grant, cooperative agreement, or other assignment for the Federal Government, when necessary to accomplish an agency function related to this system of records.

* * * * *

[FR Doc. 03-28200 Filed 11-7-03; 8:45 am]

BILLING CODE 4410-40-P